DEPARTMENT OF THE INTERIOR

Fish and Wildlife Service

[FWS-R4-ES-2013-N117; 40120-1112-0000-F2]

Incidental Take Permit and Environmental Assessment for Forest Management Activities, Southern Arkansas

AGENCY: Fish and Wildlife Service, Interior.

ACTION: Notice.

SUMMARY: Under the Endangered Species Act (Act), we, the U.S. Fish and Wildlife Service, announce the receipt and availability of a proposed habitat conservation plan (HCP) and accompanying documents for proposed forest management activities by Potlatch Forest Holdings, Inc. (Applicant) that would take the endangered red-cockaded Woodpecker (Picoides borealis) on the Applicant's lands in south Arkansas. We invite public comments on these documents.

DATES: We must receive any written comments at our Regional Office (see ADDRESSES) on or before August 9, 2013.

ADDRESSES: Documents are available for public inspection by appointment during normal business hours at the Fish and Wildlife Service's Regional Office, 1875 Century Boulevard, Suite 200, Atlanta, GA 30345; or the Arkansas Ecological Services Field Office, 110 South Amity Road, Suite 300, Conway, AR 72032.

FOR FURTHER INFORMATION CONTACT: Mr. David Dell, Regional HCP Coordinator, (see ADDRESSES), telephone: 404-679-7313; or Ms. Erin Leone, Field Office Project Manager, at the Arkansas Ecological Services Field Office (see ADDRESSES), telephone: 501-513-4472.

SUPPLEMENTARY INFORMATION: We announce the availability of the proposed HCP, accompanying incidental take permit (ITP) application, and an environmental assessment (EA), which analyze the take of the red-cockaded woodpecker incidental to activities conducted by the Applicant. The Applicant requests a 30-year ITP under section 10(a)(1)(B) of the Act (16 U.S.C. 1531 et seq.), as amended. The Applicant's HCP describes the mitigation and minimization measures proposed to address the impacts to the species.

We specifically request information, views, and opinions from the public via this notice on our proposed Federal action, including identification of any other aspects of the human environment not already identified in the EA pursuant to National Environmental Policy Act (NEPA) regulations in the Code of Federal Regulations (CFR) at 40 CFR 1506.6. Further, we specifically solicit information regarding the adequacy of the HCP per 50 CFR parts 13 and 17.

The EA assesses the likely environmental impacts associated with the implementation of the activities, including the environmental consequences of the no-action alternative and the proposed action. The proposed action alternative is issuance of the ITP and implementation of the HCP as submitted by the Applicant. The HCP covers activities associated with the translocation of the red-cockaded woodpecker into a proposed conservation area on the Applicant's lands in Calhoun County, Arkansas; timber harvesting activities on Potlatch lands in Arkansas; and provisioning and maintenance activities associated with red-cockaded woodpecker groups within the conservation area. Avoidance, minimization, and mitigation measures include consolidation of red-cockaded woodpecker groups into the conservation area, land management to maintain habitat, and management of additional red-cockaded woodpecker groups that may be available to use for mitigation by landowners besides the Applicant.

Public Comments

Before including your address, phone number, email address, or other personal identifying information in your comment, you should be aware that your entire comment—including your personal identifying information—may be made publicly available at any time. While you can ask us in your comment to withhold your personal identifying information from public review, we cannot guarantee that we will be able to do so.

If you wish to comment, you may submit comments by any one of several methods. Please reference TE85629A-0 in such comments. You may mail comments to the Fish and Wildlife Service's Regional Office (see ADDRESSES). You may also comment via the internet to david_dell@fws.gov. Please include your name and return address in your internet message. If you do not receive a confirmation from us that we have received your internet message, contact us directly at either telephone number listed under FOR FURTHER INFORMATION CONTACT.

Finally, you may hand-deliver comments to either of our offices listed under ADDRESSES.

Covered Area

The HCP and ITP application covers 419,278 acres of timberland in south Arkansas containing 21 red-cockaded woodpecker groups, 17 potential breeding groups and four single bird groups. Six of these groups are currently located outside the proposed conservation area, which will encompass 13,122 acres of timberland and be the focus of red-cockaded woodpecker conservation activities. The red-cockaded woodpecker historically ranged throughout south Arkansas, but is now restricted to Felsenthal National Wildlife Refuge (NWR), Ouachita National Forest, Warren Prairie Natural Area, one privately-owned conservation area managed under a separate HCP adjacent to Felsenthal NWR, Potlatch lands, and up to eight isolated groups on other private lands.

Next Steps

We will evaluate the ITP application, including the HCP and any comments we receive, to determine whether the application meets the requirements of section 10(a)(1)(B) of the Act. We will also evaluate whether issuance of a section 10(a)(1)(B) ITP complies with section 7 of the Act by conducting an intra-Service section 7 consultation. We will use the results of this consultation, in combination with the above findings, in our final analysis to determine whether or not to issue the ITP. If we determine that the requirements are met, we will issue the ITP for the incidental take of red-cockaded woodpecker.

Authority: We provide this notice under section 10 of the Act (16 U.S.C. 1531 et seq.) and NEPA regulations (40 CFR 1506.6).

Dated: May 20, 2013.
Mike Oetker,
Acting Regional Director.

[FR Doc. 2013-13714 Filed 6-7-13; 8:45 am]

BILLING CODE 4310-55-P